ENVIRONMENTAL PROTECTION AGENCY

[See Item Specific ICR Titles Provided in the Text; FRL-10022-42-OAR]

Proposed Information Collection Request; Comment Request; 41 Source Categories

AGENCY: Environmental Protection Agency (EPA).

ACTION: Notice.

SUMMARY: The U.S. Environmental Protection Agency is planning to submit the below listed information collection requests (ICR) to the Office of Management and Budget (OMB) for review and approval in accordance with the Paperwork Reduction Act. Before doing so, EPA is soliciting public comments on specific aspects of the proposed information collection as described below. These are proposed extensions of the currently approved ICRs. An agency may not conduct or sponsor and a person is not required to respond to a collection of information unless it displays a currently valid OMB control number.

DATES: Comments must be submitted on or before June 14, 2021.

ADDRESSES: Submit your comments, referencing the Docket ID numbers provided for each item in the text, online using https://www.regulations.gov/ (our preferred method), by email to a-and-r-docket@epa.gov, or by mail to: EPA Docket Center, Environmental Protection Agency, Mail Code 28221T, 1200 Pennsylvania Ave. NW, Washington, DC 20460.

The EPA's policy is that all relevant comments received will be included in the public docket without change including any personal information provided, unless the comment includes profanity, threats, information claimed to be Confidential Business Information or other information whose disclosure is restricted by statute. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Mr. Muntasir Ali, Sector Policies and Programs Division, (D243-05), Office of Air Quality Planning and Standards, U.S. Environmental Protection Agency, Research Triangle Park, North Carolina 27711; telephone number: (919)-541-0833; email address: Ali.Muntasir@epa.gov.

SUPPLEMENTARY INFORMATION: Supporting documents which explain in detail the information that the EPA will be collecting are available in the public docket for this ICR. The docket can be viewed online at https://www.regulations.gov/ or in person at the EPA Docket Center, WJC West Building, Room 3334, 1301 Constitution Ave. NW, Washington, DC. The telephone number for the Docket Center is 202-566-1744. For additional information about EPA's public docket, visit https://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICR as appropriate. The final ICR package will then be submitted to OMB for review and approval. At that time, EPA will issue another Federal Register notice to announce the submission of the ICR to OMB and the opportunity to submit additional comments to OMB.

General Abstract: For the first ICR in this notice (item (1) below), regulated entities are required to submit initial notifications when an aerosol coating is manufactured and notification of changes in the initial report, to report formulation data and exemptions claimed, and to maintain records. In addition, regulated entities are required to submit triennial reports that include formulation data and VOC usage. The reports required enable the EPA to determine compliance with the national VOC emission standards for aerosol coatings. For the remaining listed ICRs in this notice, owners and operators of affected facilities are required to comply with reporting and record keeping requirements for the general provisions of 40 CFR part 60, subpart A or part 63, subpart A, as well as the applicable specific standards. This includes submitting initial notifications, performance tests and periodic reports and results, and maintaining records of the occurrence and duration of any startup, shutdown, or malfunction in the operation of an affected facility, or any period during which the monitoring system is inoperative. These reports are used by EPA to determine compliance with the standards.

(1) Docket ID Number: EPA-HQ-OAR-2006-0971; National Volatile Organic Compound Emission Standards for Aerosol Coatings (40 CFR part 59, subpart E) (Renewal); EPA ICR Number 2289.05; OMB Control Number 2060-0617; Expiration date November 30, 2021.

Respondents: Manufacturers, distributors, and importers of aerosol coatings.

Respondent's obligation to respond: Mandatory (40 CFR part 59, subpart E).

Estimated number of respondents: 65.

Frequency of response: Annually, triennially.

Estimated Annual burden: 12,259 hours.

Estimated Annual cost: $855,113, includes no annualized capital or operations & maintenance (O&M) costs.

Changes in Estimates: There is no change in burden from the previous ICR.

(2) Docket ID Number: EPA-HQ-OAR-2021-0085; New Source Performance Standards (NSPS) for New Residential Wood Heaters (40 CFR part 60, subpart AAA) (Renewal); EPA ICR Number 1176.14; OMB Control Number 2060-0161; Expiration date March 31, 2022.

Respondents: Residential wood heaters.

Respondent's obligation to respond: Mandatory (40 CFR part 60, subpart AAA).

Estimated number of respondents: 45.

Frequency of response: Annually.

Estimated Annual burden: 4,320 hours.

Estimated Annual cost: $1,210,000, includes $740,000 annualized capital or operations & maintenance (O&M) costs.

Changes in Estimates: There is no change in burden from the previous ICR.

(3) Docket ID Number: EPA-HQ-OAR-2021-0087; National Emission Standards for Hazardous Air Pollutants (NESHAP) for Benzene Waste Operations (40 CFR part 61, subpart FF) (Renewal); EPA ICR Number 1541.13; OMB Control Number 2060-0183; Expiration date March 31, 2022.

Respondents: Facilities that generate waste containing benzene.

Respondent's obligation to respond: Mandatory (40 CFR part 61, subpart FF).

Estimated number of respondents: 270.

Frequency of response: Quarterly and annually.

Estimated Annual burden: 19,500 hours.

Estimated Annual cost: $2,130,000, includes no annualized capital or O&M costs.

Changes in Estimates: There is no change in burden from the previous ICR.

(4) Docket ID Number: EPA-HQ-OAR-2021-0089; NESHAP for Chromium Emissions from Hard and Decorative Chromium Electroplating and Chromium Anodizing Tanks (40 CFR part 63, subpart N) (Renewal); EPA ICR Number 1611.13; OMB Control Number 2060-0327; Expiration date March 31, 2022.

Respondents: Hard and decorative chromium electroplating and chromium anodizing tanks.

Respondent's obligation to respond: Mandatory (40 CFR part 63, subpart N).

Estimated number of respondents: 1,343.

Frequency of response: Quarterly, semiannually, and annually.

Estimated Annual burden: 242,000 hours.

Estimated Annual cost: $46,900,000, includes $20,400,000 annualized capital or O&M costs.

Changes in Estimates: There is no change in burden from the previous ICR.

(5) Docket ID Number: EPA-HQ-OAR-2021-0090; NESHAP for Flexible Polyurethane Foam Product (40 CFR part 63, subpart III) (Renewal); EPA ICR Number 1783.10; OMB Control Number 2060-0357; Expiration date March 31, 2022.

Respondents: Flexible polyurethane foam production facilities.

Respondent's obligation to respond: Mandatory (40 CFR part 63, subpart III).

Estimated number of respondents: 12.

Frequency of response: Semiannually and annually.

Estimated Annual burden: 869 hours.

Estimated Annual cost: $94,700, includes no annualized capital or O&M costs.

Changes in Estimates: There is no change in burden from the previous ICR.

(6) Docket ID Number: EPA-HQ-OAR-2021-0091; NESHAP for Pesticide Active Ingredient Production (40 CFR part 63, subpart MMM) (Renewal); EPA ICR Number 1807.10; OMB Control Number 2060-0370; Expiration date March 31, 2022.

Respondents: Pesticide active ingredient production facilities.

Respondent's obligation to respond: Mandatory (40 CFR part 63, subpart MMM)

Estimated number of respondents: 18.

Frequency of response: Quarterly and semiannually.

Estimated Annual burden: 12,100 hours.

Estimated Annual cost: $1,350,000, includes $26,500 annualized capital or O&M costs.

Changes in Estimates: There is no change in burden from the previous ICR.

(7) Docket ID Number: EPA-HQ-OAR-2021-0093; NESHAP for Ferroalloys Production: Ferromanganese and Silicomanganese (40 CFR part 63, subpart XXX) (Renewal); EPA ICR Number 1831.08; OMB Control Number 2060-0391; Expiration date March 31, 2022.

Respondents: Facilities that produce ferroalloys.

Respondent's obligation to respond: Mandatory (40 CFR part 63, subpart XXX).

Estimated number of respondents: 2.

Frequency of response: Quarterly, semiannually, and annually.

Estimated Annual burden: 1,170 hours.

Estimated Annual cost: $133,000, includes no annualized capital or O&M costs.

Changes in Estimates: There is a projected increase in burden due to incorporation of burden from previously promulgated rule amendments.

(8) Docket ID Number: EPA-HQ-OAR-2021-0108; NESHAP for Metal Coil Surface Coating Plants (40 CFR part 63, subpart SSSS) (Renewal); EPA ICR Number 1957.11; OMB Control Number 2060-0487; Expiration date March 31, 2022.

Respondents: Metal coil surface coating facilities.

Respondent's obligation to respond: Mandatory (40 CFR part 63, subpart SSSS).

Estimated number of respondents: 48.

Frequency of response: Semiannually and occasionally.

Estimated Annual burden: 16,100 hours.

Estimated Annual cost: $1,820,000, includes $57,600 annualized capital or O&M costs.

Changes in Estimates: There is a projected increase in burden due to incorporation of burden from previously promulgated rule amendments.

(9) Docket ID Number: EPA-HQ-OAR-2021-0111; NESHAP for Industrial, Commercial, and Institutional Boilers and Process Heaters (40 CFR part 63, subpart DDDDD) (Renewal); EPA ICR Number 2028.12; OMB Control Number 2060-0551; Expiration date March 31, 2022.

Respondents: Industrial, commercial, and institutional boilers and process heaters.

Respondent's obligation to respond: Mandatory (40 CFR part 63, subpart DDDDD).

Estimated number of respondents: 2,012.

Frequency of response: Semiannually, annually, biennially, and five-year.

Estimated Annual burden: 199,000 hours.

Estimated Annual cost: $196,000,000, includes $131,000,000 annualized capital or O&M costs.

Changes in Estimates: There is a projected increase in burden due to an increase in the number of sources subject to the regulation.

(10) Docket ID Number: EPA-HQ-OAR-2021-0112; NESHAP for Printing, Coating and Dyeing of Fabrics and Other Textiles (40 CFR part 63, subpart OOOO) (Renewal); EPA ICR Number 2071.10; OMB Control Number 2060-0522; Expiration date March 31, 2022.

Respondents: Printing, coating, slashing, dyeing, or finishing of fabric and other textiles facilities.

Respondent's obligation to respond: Mandatory (40 CFR part 63, subpart OOOO).

Estimated number of respondents: 43.

Frequency of response: Semiannually.

Estimated Annual burden: 7,248 hours.

Estimated Annual cost: $160,000, includes $110,000 annualized capital or O&M costs.

Changes in Estimates: There is a projected decrease in burden following implementation of previously promulgated rule amendments.

(11) Docket ID Number: EPA-HQ-OAR-2021-0113; NESHAP for Coal- and Oil-fired Electric Utility Steam Generating Units (40 CFR part 63, subpart UUUUU) (Renewal); EPA ICR Number 2137.10; OMB Control Number 2060-0567; Expiration date March 31, 2022.

Respondents: Coal- and oil-fired electric utility steam generating units.

Respondent's obligation to respond: Mandatory (40 CFR part 63, subpart UUUUU).

Estimated number of respondents: 322.

Frequency of response: Semiannually.

Estimated Annual burden: 284,000 hours.

Estimated Annual cost: $132,000,000, includes $104,000,000 annualized capital or O&M costs.

Changes in Estimates: There is no change in burden from the previous ICR.

(12) Docket ID Number: EPA-HQ-OAR-2021-0114; NESHAP for Gasoline Distribution Bulk Terminals, Bulk Plants, Pipeline Facilities and Gasoline Dispensing Facilities (40 CFR part 63, subparts BBBBBB and CCCCCC) (Renewal); EPA ICR Number 2237.06; OMB Control Number 2060-0620; Expiration date March 31, 2022.

Respondents: Gasoline distribution facilities.

Respondent's obligation to respond: Mandatory (40 CFR part 63, subparts BBBBBB and CCCCCC).

Estimated number of respondents: 19,120.

Frequency of response: Semiannually.

Estimated Annual burden: 214,000 hours.

Estimated Annual cost: $23,500,000, includes $110,000 annualized capital or O&M costs.

Changes in Estimates: There is no change in burden from the previous ICR.

(13) Docket ID Number: EPA-HQ-OAR-2021-0115; NESHAP for Paint Stripping and Miscellaneous Surface Coating at Area Sources (40 CFR part 63, subpart HHHHHH) (Renewal); EPA ICR Number 2268.06; OMB Control Number 2060-0607; Expiration date March 31, 2022.

Respondents: Paint stripping operations using methylene chloride (MeCl)-containing paint strippers, motor vehicle and mobile equipment surface coating operations, and miscellaneous surface coating operations.

Respondent's obligation to respond: Mandatory (40 CFR part 63, subpart HHHHHH).

Estimated number of respondents: 39,812.

Frequency of response: Initially and annually.

Estimated Annual burden: 169,000 hours.

Estimated Annual cost: $18,500,000, includes $117,000 annualized capital or O&M costs.

Changes in Estimates: There is a projected increase in burden due to an increase in the number of sources subject to the regulation.

(14) Docket ID Number: EPA-HQ-OAR-2021-0116; NESHAP for Plating and Polishing Area Sources (40 CFR part 63, subpart WWWWWW) (Renewal); EPA ICR Number 2294.06; OMB Control Number 2060-0623; Expiration date March 31, 2022.

Respondents: Plating and polishing facilities.

Respondent's obligation to respond: Mandatory (40 CFR part 63, subpart WWWWWW).

Estimated number of respondents: 2,900.

Frequency of response: Annually.

Estimated Annual burden: 67,700 hours.

Estimated Annual cost: $7,410,000, includes no annualized capital or O&M costs.

Changes in Estimates: There is no change in burden from the previous ICR.

(15) Docket ID Number: EPA-HQ-OAR-2021-0084; NESHAP for Mercury (40 CFR part 61, subpart E) (Renewal); EPA ICR Number 0113.14; OMB Control Number 2060-0097; Expiration date April 30, 2022.

Respondents: Mercury ore processing facilities, mercury cell chlor-alkali plants, sludge incineration plants, and sludge drying plants.

Respondent's obligation to respond: Mandatory (40 CFR part 61, subpart E).

Estimated number of respondents: 107.

Frequency of response: Semiannually and annually.

Estimated Annual burden: 20,600 hours.

Estimated Annual cost: $2,260,000, includes no annualized capital or O&M costs.

Changes in Estimates: There is no change in burden from the previous ICR.

(16) Docket ID Number: EPA-HQ-OAR-2021-0086; NESHAP for Coke Oven Batteries (40 CFR part 63, subpart L) (Renewal); EPA ICR Number 1362.12; OMB Control Number 2060-0253; Expiration date April 30, 2022.

Respondents: Coke oven batteries.

Respondent's obligation to respond: Mandatory (40 CFR part 63, subpart L).

Estimated number of respondents: 19.

Frequency of response: Semiannually.

Estimated Annual burden: 79,800 hours.

Estimated Annual cost: $8,730,000, includes no annualized capital or O&M costs.

Changes in Estimates: There is no change in burden from the previous ICR.

(17) Docket ID Number: EPA-HQ-OAR-2021-0092; NESHAP for Steel Pickling, HCI Process Facilities and Hydrochloric Acid Regeneration Plants (40 CFR part 63, subpart CCC) (Renewal); EPA ICR Number 1821.10; OMB Control Number 2060-0419; Expiration date April 30, 2022.

Respondents: Steel pickling, HCl process facilities and hydrochloric acid regeneration plants

Respondent's obligation to respond: Mandatory (40 CFR part 63, subpart CCC)

Estimated number of respondents: 100.

Frequency of response: Semiannually.

Estimated Annual burden: 35,000 hours.

Estimated Annual cost: $3,840,000, includes $10,600 annualized capital or O&M costs.

Changes in Estimates: There is no change in burden from the previous ICR.

(18) Docket ID Number: EPA-HQ-OAR-2021-0094; NESHAP for Source Categories: Generic Maximum Achievable Control Technology Standards (40 CFR part 63, subpart YY) (Renewal); EPA ICR Number 1871.11; OMB Control Number 2060-0420; Expiration date April 30, 2022.

Respondents: Polycarbonate, acrylic and modacrylic fiber, acetal resin, and hydrogen fluoride production facilities.

Respondent's obligation to respond: Mandatory (40 CFR part 63, subpart YY).

Estimated number of respondents: 7.

Frequency of response: Semiannually.

Estimated Annual burden: 2,910 hours.

Estimated Annual cost: $361,000, includes $43,100 annualized capital or O&M costs.

Changes in Estimates: There is no change in burden from the previous ICR.

(19) Docket ID Number: EPA-HQ-OAR-2021-0106; NESHAP for Paper and Other Web Coating (40 CFR part 63, subpart JJJJ) (Renewal); EPA ICR Number 1951.10; OMB Control Number 2060-0511; Expiration date April 30, 2022.

Respondents: Paper and other web coating facilities.

Respondent's obligation to respond: Mandatory (40 CFR part 63, subpart JJJJ)

Estimated number of respondents: 170.

Frequency of response: Semiannually.

Estimated Annual burden: 17,300 hours.

Estimated Annual cost: $2,735,000, includes $765,000 annualized capital or O&M costs.

Changes in Estimates: There is no change in burden from the previous ICR.

(20) Docket ID Number: EPA-HQ-OAR-2021-0107; NESHAP for Metal Furniture Surface Coating (40 CFR part 63, subpart RRRR) (Renewal); EPA ICR Number 1952.10; OMB Control Number 2060-0518; Expiration date April 30, 2022.

Respondents: Metal furniture surface coating facilities.

Respondent's obligation to respond: Mandatory (40 CFR part 63, subpart RRRR).

Estimated number of respondents: 16.

Frequency of response: Semiannually.

Estimated Annual burden: 190,000 hours.

Estimated Annual cost: $17,200,000, includes $700,000 annualized capital or O&M costs.

Changes in Estimates: There is a projected decrease in burden following implementation of previously promulgated rule amendments.

(21) Docket ID Number: EPA-HQ-OAR-2021-0109; NESHAP for Reinforced Plastic Composites Production (40 CFR part 63, subpart WWWW) (Renewal); EPA ICR Number 1976.10; OMB Control Number 2060-0509; Expiration date April 30, 2022.

Respondents: Reinforced plastic composites production facilities.

Respondent's obligation to respond: Mandatory (40 CFR part 63, subpart WWWW)

Estimated number of respondents: 448.

Frequency of response: Semiannually.

Estimated Annual burden: 38,125 hours.

Estimated Annual cost: $3,749,000, includes no annualized capital or O&M costs.

Changes in Estimates: There is a projected decrease in burden following implementation of previously promulgated rule amendments.

(22) Docket ID Number: EPA-HQ-OAR-2021-0110; NESHAP for Coke Oven Pushing, Quenching, and Battery Stacks (40 CFR part 63, subpart CCCCC) (Renewal); EPA ICR Number 1995.08; OMB Control Number 2060-0521; Expiration date April 30, 2022.

Respondents: Coke oven batteries.

Respondent's obligation to respond: Mandatory (40 CFR part 63, subpart CCCCC).

Estimated number of respondents: 16.

Frequency of response: Quarterly and semiannually.

Estimated Annual burden: 27,200 hours.

Estimated Annual cost: $3,240,000, includes $143,000 annualized capital or O&M costs.

Changes in Estimates: There is no change in burden from the previous ICR.

(23) Docket ID Number: EPA-HQ-OAR-2021-0101; NESHAP for Integrated Iron and Steel Manufacturing (40 CFR part 63, subpart FFFFF) (Renewal); EPA ICR Number 2003.10; OMB Control Number 2060-0517; Expiration date April 30, 2022.

Respondents: Sinter plants, blast furnaces, and basic oxygen process furnace shops at integrated iron and steel manufacturing facilities.

Respondent's obligation to respond: Mandatory (40 CFR part 63, subpart FFFFF).

Estimated number of respondents: 11.

Frequency of response: Semiannually.

Estimated Annual burden: 6,500 hours.

Estimated Annual cost: $800,000, includes $50,300 annualized capital or O&M costs.

Changes in Estimates: There is no change in burden from the previous ICR.

(24) Docket ID Number: EPA-HQ-OAR-2021-0102; NESHAP for Flexible Polyurethane Foam Fabrication (40 CFR part 63, subpart MMMMM) (Renewal); EPA ICR Number 2027.11; OMB Control Number 2060-0516; Expiration date April 30, 2022.

Respondents: Flexible polyurethane foam fabrication facilities.

Respondent's obligation to respond: Mandatory (40 CFR part 63, subpart MMMMM)

Estimated number of respondents: 18.

Frequency of response: Semiannually.

Estimated Annual burden: 22,200 hours.

Estimated Annual cost: $2,560,000, includes $34,500 annualized capital or O&M costs.

Changes in Estimates: There is a projected decrease in burden due to anticipated shutdown of existing sources.

(25) Docket ID Number: EPA-HQ-OAR-2021-0104; NESHAP for Refractory Products Manufacturing (40 CFR part 63, subpart SSSSS) (Renewal); EPA ICR Number 2040.11; OMB Control Number 2060-0515; Expiration date April 30, 2022.

Respondents: Refractory products manufacturing facilities.

Respondent's obligation to respond: Mandatory (40 CFR part 63, subpart SSSSS).

Estimated number of respondents: 8.

Frequency of response: Semiannually.

Estimated Annual burden: 306 hours.

Estimated Annual cost: $37,800, includes $3,040 annualized capital or O&M costs.

Changes in Estimates: There is a projected decrease in burden due to anticipated shutdown of existing sources.

(26) Docket ID Number: EPA-HQ-OAR-2021-0121; NESHAP for Industrial, Commercial, and Institutional Boilers Area Sources (40 CFR part 63, subpart JJJJJJ) (Renewal); EPA ICR Number 2253.05; OMB Control Number 2060-0668; Expiration date April 30, 2022.

Respondents: Industrial, commercial, and institutional boilers designed to burn biomass, coal, or liquid fuels.

Respondent's obligation to respond: Mandatory (40 CFR part 63, subpart JJJJJJ).

Estimated number of respondents: 100,344.

Frequency of response: Annually and biennially.

Estimated Annual burden: 1,830,000 hours.

Estimated Annual cost: $340,000,000, includes $132,000,000 annualized capital or O&M costs.

Changes in Estimates: There is a projected increase in burden due to an increase in the number of sources subject to the regulation.

(27) Docket ID Number: EPA-HQ-OAR-2021-0122; NESHAP for Nine Metal Fabrication and Area Finishing Source (40 CFR part 63, subpart XXXXXX) (Renewal); EPA ICR Number 2298.06; OMB Control Number 2060-0622; Expiration date April 30, 2022.

Respondents: Metal fabrication and finishing facilities.

Respondent's obligation to respond: Mandatory (40 CFR part 63, subpart XXXXXX).

Estimated number of respondents: 5,800.

Frequency of response: Annually.

Estimated Annual burden: 39,000 hours.

Estimated Annual cost: $4,440,000, includes no annualized capital or O&M costs.

Changes in Estimates: There is no change in burden from the previous ICR.

(28) Docket ID Number: EPA-HQ-OAR-2021-0125; NESHAP for Polyvinyl Chloride and Copolymer Production (40 CFR part 63, subpart HHHHHHH) (Renewal); EPA ICR Number 2432.07; OMB Control Number 2060-0666; Expiration date April 30, 2022.

Respondents: Polyvinyl chloride and copolymer production facilities.

Respondent's obligation to respond: Mandatory (40 CFR part 63, subpart HHHHHHH).

Estimated number of respondents: 15.

Frequency of response: Semiannually.

Estimated Annual burden: 338,000 hours.

Estimated Annual cost: $45,500,000, includes $7,060,000 annualized capital or O&M costs.

Changes in Estimates: There is a projected decrease in burden due to anticipated shutdown of existing sources.

(29) Docket ID Number: EPA-HQ-OAR-2021-0096; NESHAP for Asbestos (40 CFR part 61, subpart M) (Renewal); EPA ICR Number 0111.16; OMB Control Number 2060-0101; Expiration date May 31, 2022.

Respondents: Demolition and renovation facilities; asbestos waste disposal; asbestos milling, manufacturing and fabricating; the use of asbestos on roadways; asbestos waste converting facilities; and the use of asbestos insulation and sprayed-on materials.

Respondent's obligation to respond: Mandatory (40 CFR part 61, subpart M).

Estimated number of respondents: 9,687.

Frequency of response: Quarterly, semiannually, and annually.

Estimated Annual burden: 287,000 hours.

Estimated Annual cost: $32,700,000, includes no annualized capital or O&M costs.

Changes in Estimates: There is a projected increase in burden due to an increase in the number of sources subject to the regulation.

(30) Docket ID Number: EPA-HQ-OAR-2021-0098; NESHAP for the Surface Coating of Large Household and Commercial Appliances (40 CFR part 63, subpart NNNN) (Renewal); EPA ICR Number 1954.10; OMB Control Number 2060-0457; Expiration date May 31, 2022.

Respondents: Large household and commercial appliance surface coating facilities.

Respondent's obligation to respond: Mandatory (40 CFR part 63, subpart NNNN)

Estimated number of respondents: 10.

Frequency of response: Semiannually.

Estimated Annual burden: 3,870 hours.

Estimated Annual cost: $429,000, includes $5,400 annualized capital or O&M costs.

Changes in Estimates: There is a projected decrease in burden following implementation of previously promulgated rule amendments.

(31) Docket ID Number: EPA-HQ-OAR-2021-0100; NESHAP for Rubber Tire Manufacturing (40 CFR part 63, subpart XXXX) (Renewal); EPA ICR Number 1982.05; OMB Control Number 2060-0449; Expiration date May 31, 2022.

Respondents: Rubber processing, tire production, tire cord production, and puncture sealant application facilities.

Respondent's obligation to respond: Mandatory (40 CFR part 63, subpart XXXX)

Estimated number of respondents: 23.

Frequency of response: Semiannually and annually.

Estimated Annual burden: 6,520 hours.

Estimated Annual cost: $910,000, includes no annualized capital or O&M costs.

Changes in Estimates: There is a projected decrease in burden due to anticipated shutdown of existing sources.

(32) Docket ID Number: EPA-HQ-OAR-2021-0103; NESHAP for Asphalt Processing and Asphalt Roofing Manufacturing (40 CFR part 63, subpart LLLLL) (Renewal); EPA ICR Number 2029.09; OMB Control Number 2060-0520; Expiration date May 31, 2022.

Respondents: Asphalt processing and asphalt roofing facilities.

Respondent's obligation to respond: Mandatory (40 CFR part 63, subpart LLLLL)

Estimated number of respondents: 8.

Frequency of response: Semiannually.

Estimated Annual burden: 3,970 hours.

Estimated Annual cost: $472,000, includes $20,000 annualized capital or O&M costs.

Changes in Estimates: There is a projected increase in burden due to incorporation of burden from previously promulgated rule amendments.

(33) Docket ID Number: EPA-HQ-OAR-2021-0105; NESHAP for Semiconductor Manufacturing (40 CFR part 63, subpart BBBBB) (Renewal); EPA ICR Number 2042.08; OMB Control Number 2060-0519; Expiration date May 31, 2022.

Respondents: Semiconductor manufacturing facilities.

Respondent's obligation to respond: Mandatory (40 CFR part 63, subpart BBBBB).

Estimated number of respondents: 1.

Frequency of response: Semiannually.

Estimated Annual burden: 41 hours.

Estimated Annual cost: $5,270, includes $550 annualized capital or O&M costs.

Changes in Estimates: There is no change in burden from the previous ICR.

(34) Docket ID Number: EPA-HQ-OAR-2021-0123; NESHAP for Chemical Manufacturing Area Sources (40 CFR part 63, subpart VVVVVV) (Renewal); EPA ICR Number 2323.08; OMB Control Number 2060-0621; Expiration date May 31, 2022.

Respondents: Chemical manufacturing facilities.

Respondent's obligation to respond: Mandatory (40 CFR part 63, subpart VVVVVV).

Estimated number of respondents: 528.

Frequency of response: Semiannually.

Estimated Annual burden: 10,200 hours.

Estimated Annual cost: $2,650,000, includes $1,490,000 annualized capital or O&M costs.

Changes in Estimates: There is a projected increase in burden due to an increase in the number of sources subject to the regulation.

(35) Docket ID Number: EPA-HQ-OAR-2021-0124; NESHAP for Aluminum, Copper, and Other Non-Ferrous Foundries (40 CFR part 63, subpart ZZZZZZ) (Renewal); EPA ICR Number 2332.06; OMB Control Number 2060-0630; Expiration date May 31, 2022.

Respondents: Aluminum, copper, and other non-ferrous metals foundries.

Respondent's obligation to respond: Mandatory (40 CFR part 63, subpart ZZZZZZ).

Estimated number of respondents: 318.

Frequency of response: Semiannually.

Estimated Annual burden: 11,900 hours.

Estimated Annual cost: $1,360,000, includes no annualized capital or O&M costs.

Changes in Estimates: There is no change in burden from the previous ICR.

(36) Docket ID Number: EPA-HQ-OAR-2021-0126; Title: NESHAP for Polyvinyl Chloride and Copolymers Production Area Sources (40 CFR part 63, subpart DDDDDD) (Renewal); EPA ICR Number 2454.06; OMB Control Number 2060-0684; Expiration date May 31, 2022.

Respondents: Polyvinyl chloride and copolymer production facilities.

Respondent's obligation to respond: Mandatory (40 CFR part 63, subpart DDDDDD).

Estimated number of respondents: 4.

Frequency of response: Semiannually.

Estimated Annual burden: 92,300 hours.

Estimated Annual cost: $1,360,000, includes no annualized capital or O&M costs.

Changes in Estimates: There is a projected decrease in burden due to anticipated shutdown of existing sources.

(37) Docket ID Number: EPA-HQ-OAR-2021-0118; NESHAP for Mercury Cell Chlor-Alkali Plants (40 CFR part 63, subpart IIIII) (Renewal); EPA ICR Number 2046.11; OMB Control Number 2060-0542; Expiration date June 30, 2022.

Respondents: Mercury cell chlor-alkali facilities.

Respondent's obligation to respond: Mandatory (40 CFR part 63, subpart IIIII).

Estimated number of respondents: 2.

Frequency of response: Semiannually.

Estimated Annual burden: 3,760 hours.

Estimated Annual cost: $444,000, includes $16,400 annualized capital or O&M costs.

Changes in Estimates: There is a projected decrease in burden due to anticipated shutdown of existing sources.

(38) Docket ID Number: EPA-HQ-OAR-2021-0119; NESHAP for Taconite Iron Ore Processing (40 CFR part 63 subpart RRRRR) (Renewal); EPA ICR Number 2050.10; OMB Control Number 2060-0538; Expiration date June 30, 2022.

Respondents: Taconite iron ore processing facilities.

Respondent's obligation to respond: Mandatory (40 CFR part 63 subpart RRRRR).

Estimated number of respondents: 8.

Frequency of response: Semiannually.

Estimated Annual burden: 483 hours.

Estimated Annual cost: $576,000, includes $521,000 annualized capital or O&M costs.

Changes in Estimates: There is a projected increase in burden due to an increase in the number of sources subject to the regulation.

(39) Docket ID Number: EPA-HQ-OAR-2021-0120; NESHAP for Primary Magnesium Refining (40 CFR part 63, subpart TTTTT) (Renewal); EPA ICR Number 2098.11; OMB Control Number 2060-0536; Expiration date June 30, 2022.

Respondents: Primary magnesium refining facilities.

Respondent's obligation to respond: Mandatory (40 CFR part 63, subpart TTTTT).

Estimated number of respondents: 1.

Frequency of response: Semiannually.

Estimated Annual burden: 611 hours.

Estimated Annual cost: $70,900, includes $1,200 annualized capital or O&M costs.

Changes in Estimates: There is no change in burden from the previous ICR.

(40) Docket ID Number: EPA-HQ-OAR-2021-0097; NESHAP for Municipal Solid Waste Landfills (40 CFR part 63, subpart AAAA) (Renewal); EPA ICR Number 1938.08; OMB Control Number 2060-0505; Expiration date July 31, 2022.

Respondents: Municipal solid waste landfills.

Respondent's obligation to respond: Mandatory (40 CFR part 63, subpart AAAA).

Estimated number of respondents: 1,151.

Frequency of response: Semiannually.

Estimated Annual burden: 35,200 hours.

Estimated Annual cost: $3,170,000, includes $10,800 annualized capital or O&M costs.

Changes in Estimates: There is a projected increase in burden due to an increase in the number of sources subject to the regulation.

(41) Docket ID Number: EPA-HQ-OAR-2021-0099; NESHAP for Wet-Formed Fiberglass Mat Production (40 CFR part 63, subpart HHHH) (Renewal); EPA ICR Number 1964.10; OMB Control Number 2060-0496; Expiration date September 30, 2022.

Respondents: Wet-formed fiberglass mat production facilities.

Respondent's obligation to respond: Mandatory (40 CFR part 63, subpart HHHH).

Estimated number of respondents: 7.

Frequency of response: Semiannually.

Estimated Annual burden: 1,470 hours.

Estimated Annual cost: $95,500, includes no annualized capital or O&M costs.

Changes in Estimates: There is no change in burden from the previous ICR.

Dated: April 5, 2021.
Penny Lassiter,
Director, Sector Policies and Programs Division.

[FR Doc. 2021-07562 Filed 4-12-21; 8:45 am]

BILLING CODE 6560-50-P